DEPARTMENT OF TRANSPORTATION

Federal Aviation Administration

RTCA Special Committee 205/EUROCAE Working Group 71: Software Considerations in Aeronautical Systems Fifth Joint Plenary Meeting

AGENCY: Federal Aviation Administration (FAA), DOT.

ACTION: Notice of RTCA Special Committee 205/EUROCAE Working Group 71 meeting.

SUMMARY: The FAA is issuing this notice to advise the public of a meeting of RTCA Special Committee 205/EUROCAE Working Group 71: Software Considerations in Aeronautical Systems.

DATES: The meeting will be held March 19-23, 2007 from 8:30 a.m.-4:30 p.m.

ADDRESSES: the meeting will be held at Embry-Riddle Aeronautical University (ERAU) Clyde Morris Boulevard, Daytona Beach, Florida, United States of America.

FOR FURTHER INFORMATION CONTACT: (1) RTCA Secretariat, 1828 L Street, NW., Suite 805, Washington, DC 20036; telephone (202) 833-9339; fax (202) 833-9434; Web site http://www.rtca.org; (2) Joint Secretaries, Europe: Mr. Ross Hannon, telephone +44 78807-46650, e-mail: ross_hannon@binternet.com; US: Mr. Michael DeWalt, telephone (206) 972-0170, e-mail: mike.dewalt@certification.com.

SUPPLEMENTARY INFORMATION: Pursuant to Section 10(a)(2) of the Federal Advisory Committee Act (Pub. L. 92-463, 5 U.S.C., Appendix 2), notice is hereby given for a Special Committee 205/EUROCAE Working Group 71 meeting:

Note: On arrival at ERAU please have photo identification available (either a passport, a drivers license bearing a photograph or an identity card) to assist in your badge being issued.

The agenda will include:

• March 19:

• Registration.

• New Attendees Introductory Session.

• Sub-Group Meetings.

• Sub-Group Meeting Continue.

• Executive Committee/SG Chairs/Secretaries Meeting.

• March 20:

• Plenary: Chairmen's Remarks and Introductions, Review/Approve Agenda and 4th Joint Plenary Minutes.

• Issue List Status Report, Internet and Serve Access Presentation.

• Sub-Group Report Ins and Q & A, Other Reports, and Other Documents.

• Sub-Group Meetings.

• Executive Committee/SG Chairs/Secretaries Meeting.

• March 21:

• Sub-Group Meetings.

• Plenary Session.

• March 22:

• Sub-Group Meetings.

• Plenary Session.

• Executive Committee/SG Chairs/Secretaries Meeting.

• March 23:

• Plenary Session: Report Outs, Evaluation of Papers.

• Sub-Group 3: Tool Qualification.

• Sub-Group 4: Model Based Design & Verification.

• Sub-Group 5: Object Oriented Technology.

• Sub-Group 6: Formal Methods.

• Sub-Group 7: Special Considerations.

• Sub-Group 1: SCWG Document Integration.

• Closing Plenary Session (Other Business, Date and Place of Next Meeting, Meeting Evaluation, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 7, 2007.
Francisco Estrada C.,
RTCA Advisory Committee.

[FR Doc. 07-1160 Filed 3-12-07; 8:45 am]

BILLING CODE 4910-13-M